DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, D.C.

Docket Number: 05-023. Applicant: Dartmouth College, Procurement and Auxiliary Services, Caller #10,001, Hanover, NH 03755. Instrument: Electron Microscope, Model Technai G2 20 U-TWIN with XL30 ESEM FEG. Manufacturer: FEI Co, The Netherlands. Intended Use: The instrument is intended to be used to study:

1. Nanophase and nanocrystalline magnetic intermagnetic alloys

2. Monolayer-protected metal nanoparticle clusters

3. Protein crystals with infused inorganic nanoparticles. The instrument will also be use in graduate and undergraduate studies. Application accepted by Commissioner of Customs: June 9, 2005.

Docket Number: 05-027. Applicant: Beckman Research Institute of the City of Hope National Medical Center, 1450 East Duarte Road, Duarte, CA 91010. Instrument: Scanning Electron Microscope, Model Quanta 200 ESEM. Manufacturer: FEI Company, The Netherlands. Intended Use: The instrument is intended to be used in various research projects of the Institute including:

1. Studies of cell-cell interactions, such as occurs in cell-mediated immunity, or the arrangement of cells in tissues

2. Studies of cell surface structures, such as those that may be important in pathogens gaining a foothold in immune compromised and healthy patients

3. The examination of nanodevices used in mass spectrometers and other instrumentation for the study of small quantities of proteins and nucleic acid. Application accepted by Commissioner of Customs: June 21, 2005.

Docket Number: 05-028. Applicant: University of Wisconsin, Madison, Department of Biochemistry, 433 Babcock Drive, Madison, WI 53706-1544. Instrument: Electron Microscope, Model Technai 12 TWIN. Manufacturer: FEI Company, Czech Republic. Intended Use: The instrument is intended to be used for research by investigators at the University. Studies involve electron microscopy of animal cells, isolated proteins, DNA molecules, viruses, etc. All of the materials are biological in origin and the objective is to explore either the structure and/or the mechanism of action of these biological materials. Application accepted by Commissioner of Customs: June 23, 2005.

Gerald A. Zerdy,
Program Manager Statutory Import Programs Staff.

[FR Doc. E5-3549 Filed 7-5-05; 8:45 am]

BILLING CODE 3510-DS-S